DEPARTMENT OF TRANSPORTATION

Maritime Administration

[Docket No. MARAD-2020-0020]

Request for Comments of a Previously Approved Information Collection: United States Merchant Marine Academy Alumni Survey

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on November 4, 2019.

DATES: Comments must be submitted on or before April 2, 2020.

ADDRESSES: Send comments regarding the burden estimate, including suggestions for reducing the burden, to the Office of Management and Budget, Attention: Desk Officer for the Office of the Secretary of Transportation, 725 17th Street NW, Washington, DC 20503.

FOR FURTHER INFORMATION CONTACT: Dr. John R. Ballard, (516) 726-5833, U.S. Merchant Marine Academy, Kings Point, NY 11024.

SUPPLEMENTARY INFORMATION:

Title: U.S. Merchant Marine Academy Alumni Survey.

OMB Control Number: 2133-0542.

Type of Request: Renewal of a Previously Approved Information Collection.

Background: The United States Merchant Marine Academy is an accredited federal service academy that confers BS and MS degrees. The Academy is expected to assess its educational outcomes and report those findings to its Regional Accreditation authority in order to maintain the institution's degree granting status. Periodic survey of alumni cohorts and analysis of the data gathered is a routine higher education assessment practice in the United States.

Respondents: Graduates of the U.S. Merchant Marine Academy.

Affected Public: U.S. Merchant Marine Academy Graduates.

Total Estimated Number of Responses: 600.

Frequency of Collection: Annually.

Estimated Time per Respondent: 0.25 Hrs.

Total Estimated Number of Annual Burden Hours: 150.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

* * *

Dated: February 27, 2020.
By Order of the Maritime Administrator.
T. Mitchell Hudson, Jr.,
Secretary, Maritime Administration.

[FR Doc. 2020-04311 Filed 3-2-20; 8:45 am]

BILLING CODE 4910-81-P